DEPARTMENT OF COMMERCE

[I.D. 080204A]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: South Pacific Tuna Act.

Form Number(s): None.

OMB Approval Number: 0648-0218.

Type of Request: Regular submission.

Burden Hours: 242.

Number of Respondents: 22.

Average Hours Per Response: 15 minutes each for license application form and VMS application form; 1 hour each for registration application form and catch report form; 30 minutes for unloading logsheet; and 2 hours for annual VMS maintenance.

Needs and Uses: NOAA collects license, registration, catch and unloading information from tuna vessels fishing within a large region of the Pacific Ocean governed by the “Treaty on Fisheries Between the Governments of Certain Pacific Island States and the Government of the United States”. The information collected is needed to meet obligations under that Treaty.

Affected Public: Business or other for-profit organizations.

Frequency: On occasion, weekly, annually.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, FAX number 202-395-7285, or David_Rostker@omb.eop.gov.

Dated: July 29, 2004.
Gwellnar Banks,
Management Analyst, Office of the Chief Information Officer.

[FR Doc. 04-17895 Filed 8-4-04; 8:45 am]

BILLING CODE 3510-22-S